DEPARTMENT OF COMMERCE

Bureau of Economic Analysis

15 CFR Part 801

[Docket No. 111201710-4701-01]

RIN 0691-AA82

Direct Investment Surveys: BE-13, Survey of New Foreign Direct Investment in the United States; Correction

AGENCY: Bureau of Economic Analysis, Commerce.

ACTION: Final rule; correcting amendment.

SUMMARY: This final rule corrects: The Regulation Identifier Number (RIN) for this action; the effective date; and the statement that the Office of Management and Budget (OMB) has approved the information collection for the BE-13, Survey of New Foreign Direct Investment in the United States, pursuant to the Paperwork Reduction Act. BEA's information collection request is pending at OMB.

DATES: The effective date of the final rule published on August 14, 2014 (79 FR 47573), will be announced after the Office of Management and Budget approves the Bureau of Economic Analysis' information collection request.

FOR FURTHER INFORMATION CONTACT: Barbara K. Hubbard, Chief, Direct Transactions and Positions Branch (BE-49NI), Bureau of Economic Analysis, U.S. Department of Commerce, Washington, DC 20230; phone (202) 606-9846.

SUPPLEMENTARY INFORMATION: On Thursday, August 14, 2014, BEA published a final rule reinstating in the Code of Federal Regulations BEA's BE-13 Survey of New Foreign Direct Investment in the United States (79 FR 47573). That rule incorrectly identified the Regulation Identifier Number (RIN) as 0691-XC025. The correct RIN for this action is 0691-AA82.

The document also stated that OMB had approved the information collection for BE-13 under OMB control number 0608-0035. This control number has expired, and BEA has requested it be renewed by OMB. That request is currently pending approval at OMB. Once OMB approves the information collection, BEA will publish a document in the Federal Register informing the public that the control number has been approved. Until that time, no party is required to provide any information to BEA based on OMB control number 0608-0035.

Finally, the document stated that the final rule is effective on September 15, 2014. The effective date of the final rule will be announced after OMB issues a valid OMB control number for the information collection.

Correction

Accordingly, in final rule FR Doc. 2014-19256, appearing on page 47573 in the issue published on Thursday, August 14, 2014 (79 FR 47573), the following revisions are being made.

1. On page 47573, in the heading of the document, first column, the RIN is revised to read 0691-AA82.

2. On page 47573, the sentence in the second column under DATES is revised to read: “The effective date of this final rule will be announced after OMB issues a valid OMB control number for this information collection.”

3. On page 47574, second column under Paperwork Reduction Act, the last sentence of the first paragraph is revised to read: “A new information collection request is pending approval at OMB.”

Authority: 5 U.S.C. 301; 15 U.S.C. 4908; 22 U.S.C. 3101-3108; E.O. 11961 (3 CFR, 1977 Comp., p. 86), as amended by E.O. 12318 (3 CFR 1981 Comp., p. 173); and E.O. 12518 (3 CFR 1985 Comp., p. 348).

Dated: August 25, 2014.
Brian C. Moyer,
Acting Director, Bureau of Economic Analysis.

[FR Doc. 2014-21334 Filed 9-8-14; 8:45 am]

BILLING CODE 3510-06-P